DEPARTMENT OF COMMERCE

United States Patent and Trademark Office

Patent and Trademark Resource Centers Metrics

ACTION: Proposed information collection; comment request.

SUMMARY: The United States Patent and Trademark Office (USPTO), as required by the Paperwork Reduction Act of 1996, invites comments on a proposed extension of an existing information collection: 0651-0068 (Patent and Trademark Resource Center Metrics).

DATES: Written comments must be submitted on or before November 24, 2017.

ADDRESSES: You may submit comments by any of the following methods:

• Email: InformationCollection@uspto.gov. Include “0651-0068 comment” in the subject line of the message.

• Federal Register Portal: https://www.regulations.gov.

• Mail: Marcie Lovett, Records and Information Governance Division Director, Office of the Chief Technology Officer, United States Patent and Trademark Office, P.O. Box 1450, Alexandria, VA 22313-1450.

FOR FURTHER INFORMATION CONTACT: Requests for additional information should be directed to Robert Berry, Manager, Patent and Trademark Resource Center Program, Office of the Chief Information Officer, United States Patent and Trademark Office, P.O. Box 1450, Alexandria, VA 22313-1450; by telephone at (571) 272-7152; or by email at Robert.Berry@uspto.gov with “0651-0068 comment” in the subject line. Additional information about this collection is also available at http://www.reginfo.gov under “Information Collection Review.”

SUPPLEMENTARY INFORMATION:

I. Abstract

The USPTO seeks to collect from Patent Trademark Resource Centers (PTRC) information about the public's use of and training on the tools provided through the centers. Specifically, the USTPO seeks metrics concerning the public's use of patent and trademark services and the public outreach efforts provided by the PTRCs.

The PTRC Program is authorized under the provision of 35 U.S.C. 2(a)(2), which provides that the USPTO shall be responsible for disseminating information with respect to patents and trademarks to the public. The PTRC Program is made up public, state, and academic libraries. Once a library has been designated as a PTRC, each participating library must fulfill the following requirements: assist the public in the efficient use of patent and trademark information resources; provide free access to patent and trademark resources provided by the USPTO; and send representatives to attend the USPTO-hosted PTRC training seminars. At present, there are 86 libraries that are a part of the growing PTRC Program.

The PTRC Program requirements stipulate that all participating libraries must submit periodic metrics on the public's use of the patent and trademark services through the PTRCs and the public outreach efforts provided by the PTRCs. To facilitate this requirement, the USPTO has developed a worksheet to collect the metrics. A third-party vendor will collect the metrics on a quarterly basis. The information will only be collected electronically. The PTRCs will be given a password to input their information.

This information collection will enable the USPTO to ascertain what types of services the PTRCs should offer and to train PTRC staff more effectively, as the PTRCs continue to move away from the physical distribution of hard copy information. Collection of this information will enable the USPTO to service its current customers while more effectively planning for the future.

II. Method of Collection

The metrics will be submitted electronically to the USPTO.

III. Data

OMB Number: 0651-0068.

IC Instruments and Forms: No forms are associated with this collection of information.

Type of Review: Revision of an existing information collection.

Affected Public: Businesses or other for-profits; not-for-profit institutions.

Estimated Number of Respondents: 344 responses per year. The USPTO estimates that there will be up to 88 libraries reporting their metrics once per quarter, resulting in a total of 352 responses per year. This estimate includes possible growth in the PTRC program above the 86 libraries that are currently reporting.

Estimated Time per Response: The USPTO estimates that it will take the public approximately 30 minutes (0.50 hours) to gather the necessary information, prepare the worksheet, and submit it to the USPTO.

Estimated Total Annual Respondent Burden Hours: 176 hours.

Estimated Total Annual Respondent Cost Burden: $5,536.96 The USPTO expects that the information in this collection will be prepared by library staff, at an estimated hourly rate of $31.46. This is the mean hourly wage for college librarians according to the Bureau of Labor Statistics Occupational Employment Statistics (OES 25-4021). Using this hourly rate, the USPTO estimates that the respondent cost burden for this collection will be approximately $5,536.96 per year.

Table 1—Hourly Burden
IC No. | Item | Estimated time for response (hour) | Estimated annual responses | Estimated annual burden | Rate ($/hr) | Estimated annual respondent cost burden
|  | (a) | (b) | (c) = (a) × (b) | (d) | (e) = (c) × (d)
1 | PTRC Metric Worksheet | 0.50 (30 minutes) | 352 | 176 | $31.46 | $5,53611.96
Total |  |  | 352 | 176 |  | 5,536.96

Estimated Total Annual Non-Hour Respondent Cost Burden: $0. There are no filing fees, capital start-up, maintenance, operation, or postage costs associated with this collection.

IV. Request for Comments

Comments submitted in response to this notice will be summarized or included in the request for OMB approval of this information collection. They also will become a matter of public record.

Comments are invited on:

(a) Whether the proposed collection of information is necessary for the proper performance of the functions of the agency, including whether the information shall have practical utility;

(b) The accuracy of the agency's estimate of the burden (including hours and cost) of the proposed collection of information;

(c) Ways to enhance the quality, utility, and clarity of the information to be collected, and;

(d) Ways to minimize the burden of the collection of information on respondents, e.g., the use of automated collection techniques or other forms of information technology.

Marcie Lovett,
Records and Information Governance Division Director, OCTO, United States Patent and Trademark Office.

[FR Doc. 2017-20369 Filed 9-22-17; 8:45 am]

BILLING CODE 3510-16-P